FEDERAL COMMUNICATIONS COMMISSION

47 CFR Part 2

[ET Docket No. 00-258; FCC 05-172]

Advanced Wireless Services

AGENCY: Federal Communications Commission.

ACTION: Final rule.

SUMMARY: In this document, the Commission requires Broadband Radio Service (BRS) licensees in the 2150-2160/62 MHz band to provide information on the construction status and operational parameters of each incumbent BRS system that would be the subject of relocation.

DATES: Effective October 26, 2005.

FOR FURTHER INFORMATION CONTACT: Priya Shrinivasan, Office of Engineering & Technology, (202) 418-7005.

SUPPLEMENTARY INFORMATION: This is a summary of the Commission's Order, ET Docket No. 00-258, FCC 05-172, adopted September 23, 2005, released September 29, 2005. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Order

1. In order to assist the Commission in determining the scope of the new Advanced Wireless Services (AWS) entrants' obligation to relocate certain incumbent licensees in the 2150-2162 MHz band, the Commission will require Broadband Radio Service (BRS) licensees in the 2150-2160/62 MHz band to provide the information to the Commission within 60 days and 120 days of the effective date of this Order (the filing dates will correspond to information collection requirements for the Commission's Universal Licensing System). The Commission reallocated this spectrum for AWS by Report and Order, 68 FR 3455, January 24, 2003, and the accompanying Eighth Report and Order in ET Docket No. 00-258, FCC 05-172. Currently, neither the Commission nor the public has reliable information on the construction status and/or operational parameters of each BRS system in the 2150-2160/62 MHz band that would be subject to relocation. Pursuant to Section 4(i) of the Communications Act, 47 U.S.C. 154(i), the Commission believes that reliable, public data on each incumbent system that would be subject to relocation is essential well in advance of the planned auction of the 2150-2155 MHz band next year. It notes that the information required would ultimately be necessary in the context of relocation negotiations. Because the Commission now licenses the BRS service on the basis of geographic licensing areas, BRS licensees will be required to submit information on the locations and operating characteristics of BRS systems (e.g., the location of base or fixed stations by coordinates, tower heights, power levels, etc.) in the 2150-2160/62 MHz band, on other system characteristics of BRS incumbents (e.g., subscriber numbers and types of equipment used), and on categories of services provided (e.g., one-way or two-way service, point-to-point or point-to-multipoint operations, data or analog video service). The Commission also will require BRS licensees to provide this information even if the spectrum is leased to third parties. Further, because the Commission proposes relocation on a link-by-link basis, BRS licensees will be required, as part of the information on system design in the band, to provide the number of links (including the connection between a base station and subscriber premises equipment) within the system for both point-to-point and point-to-multipoint systems. To the extent that a system uses both BRS channels 1 and 2 as part of the same service (e.g., as a link to a two-way data service), BRS licensees will be required to make special note of this when providing their system information. The Commission notes that this list is not inclusive. This information will be collected through the Commission's Universal Licensing System (ULS) and made available to the public. To further this process, the Commission has delegated authority to the Office of Engineering and Technology and the Wireless Telecommunications Bureau to issue public notices setting forth the specific data required of BRS licensees, when it is to be filed and the procedures for filing this information. Finally, the Commission finds that there is good cause to make the requirement for BRS licensees to file information effective upon publication of the Order in the Federal Register. The Commission has provided BRS licensees with ample time to file the required information and the ability to use the ULS to submit the information easily. As noted, reliable data on each incumbent system that would be subject to relocation is essential well in advance of the planned auction of the 2150-2155 MHz band next year.

2. Pursuant to Section 4(i) of the Communications Act, as amended, 47 U.S.C. 154(i), this Order is adopted, October 26, 2005. The Order contains information collection requirements subject to the Paperwork Reduction Act of 1995 (PRA), Public Law 104-13, that are not effective until approved by the Office of Management and Budget (OMB).

3. Pursuant to Section 5(c) of the Communications Act, as amended, 47 U.S.C. 155(c), the Office of Engineering and Technology and the Wireless Telecommunications Bureau Are Granted Delegated Authority to implement the requirement set forth in this Order.

Federal Communications Commission.
Marlene H. Dortch,
Secretary.

[FR Doc. 05-21408 Filed 10-25-05; 8:45 am]

BILLING CODE 6712-01-P